DEPARTMENT OF COMMERCE

National Oceanic and Atmospheric Administration

RIN 0648-XK60

Atlantic Highly Migratory Species; Exempted Fishing, Scientific Research, Display, and Chartering Permits; Letters of Acknowledgment

AGENCY: National Marine Fisheries Service (NMFS), National Oceanic and Atmospheric Administration (NOAA), Commerce.

ACTION: Notice of intent; request for comments.

SUMMARY: NMFS announces its intent to issue Exempted Fishing Permits (EFPs), Scientific Research Permits (SRPs), Display Permits, Letters of Acknowledgment (LOAs), and Chartering Permits for the collection of Atlantic Highly Migratory Species (HMS) in 2009. In general, EFPs and related permits would authorize collections of a limited number of tunas, swordfish, billfishes, and sharks from Federal waters in the Atlantic Ocean, Caribbean Sea, and Gulf of Mexico for the purposes of scientific data collection and public display. Chartering permits allow the collection of HMS in the high seas or in the Exclusive Economic Zone of other nations. Generally, these permits will be valid from the date of issuance through December 31, 2009, unless otherwise specified, subject to the terms and conditions of individual permits.

DATES: Written comments on these activities received in response to this notice will be considered by NMFS when issuing EFPs and related permits and must be received on or before December 15, 2008.

ADDRESSES: Comments may be submitted by any of the following methods:

• Email: HMSEFP.2009@noaa.gov. Include in the subject line the following identifier: 0648- XK60.

• Mail: Craig Cockrell, Highly Migratory Species Management Division (F/SF1), NMFS, 1315 East-West Highway, Silver Spring, MD 20910.

• Fax: (301) 713-1917.

FOR FURTHER INFORMATION CONTACT: Craig Cockrell, phone: (301) 713-2347, fax: (301) 713-1917 or Jackie Wilson, phone: (240) 338-3936.

SUPPLEMENTARY INFORMATION: Issuance of EFPs and related permits are necessary for the collection of HMS for public display and scientific research because regulations (e.g., seasons, prohibited species, authorized gear, and minimum sizes) may prohibit the collection of live animals or biological samples for these purposes. Collection for scientific research and display represents a small portion of the overall fishing mortality for HMS, and this mortality will be counted against the quota of the species harvested, as appropriate. The terms and conditions of individual permits are unique; however, all permits will include reporting requirements, limit the number and species of HMS to be collected, and only authorize collection in Federal waters of the Atlantic Ocean, Gulf of Mexico, and Caribbean Sea.

EFPs and related permits are issued under the authority of the Magnuson-Stevens Fishery Conservation and Management Reauthorization Act (Magnuson-Stevens Act) (16 U.S.C. 1801 et seq.) and/or the Atlantic Tunas Convention Act (ATCA) (16 U.S.C. 971 et seq.). Regulations at 50 CFR 600.745 and 50 CFR 635.32 govern scientific research activity, exempted fishing, chartering arrangements, and exempted educational activities with respect to Atlantic HMS. Since the Magnuson-Stevens Act does not consider scientific research to be “fishing,” scientific research is exempt from this statute, and NMFS does not issue EFPs for bona fide research activities (e.g., research conducted from a research vessel and not a commercial or recreational fishing vessel) involving species that are only regulated under the Magnuson-Stevens Act (i.e., sharks) and not under ATCA. NMFS requests copies of scientific research plans for these activities and indicates concurrence by issuing an LOA to researchers to indicate that the proposed activity meets the definition of research and is therefore exempt from regulation. Examples of research conducted under LOAs consist of the tagging and releasing of sharks during bottom longline surveys to understand the distribution and seasonal abundance of different shark species and collecting and sampling sharks caught during trawl surveys for life history studies.

Scientific research is not exempt under ATCA. NMFS issues SRPs for collection of species managed under this statute (e.g., tunas, swordfish, and billfish), which authorize researchers to collect HMS from bona fide research vessels. One example of research conducted under SRPs consists of scientific surveys of HMS conducted from the National Oceanic and Atmospheric Administration's (NOAA) research vessels. EFPs are issued to researchers collecting ATCA-managed species and conducting research from commercial or recreational fishing vessels. NMFS regulations concerning the implantation or attachment of archival tags in Atlantic HMS require scientists to report their activities associated with implantation of these tags. Some examples of research conducted under EFPs consist of deploying pop-up satellite archival tags on billfish, sharks, and tunas to determine migration patterns of these species, conducting billfish larval tows to determine billfish habitat use, life history, and population structure, and determining catch rates and gear characteristics of the swordfish buoy gear fishery.

NMFS also seeks public comment on its intent to issue EFPs for the purpose of collecting biological samples under at-sea fisheries observer programs. NMFS intends to issue EFPs to any NMFS employee or NMFS-approved contractor/observer to bring onboard and possess (for scientific research purposes, biological sampling, measurement, etc.) Atlantic tuna, swordfish, shark, or billfish provided the fish is a tagged and recaptured fish, dead prior to being brought onboard, and specifically authorized for sampling by the Director of NMFS' Office of Sustainable Fisheries at the request of the Southeast or Northeast Fisheries Science Centers. On average, several hundred swordfish, tunas, and sharks are collected by at-sea observers under such EFPs in any given year. Issuing these permits allows observers to utilize fish for scientific information that would have been otherwise discarded dead. In 2008, NMFS issued three exempted fishing permits authorizing observers to collect HMS while observing commercial fishing activities.

NMFS is also seeking public comment on its intent to issue Display Permits for the collection of sharks and other HMS for public display in 2009. Collection of sharks and other HMS sought for public display in aquariums often involves collection when the commercial fishing seasons are closed, collection of otherwise prohibited species, and collection of fish below the minimum size for recreational permit holders. NMFS established a 60-metric ton (mt) whole weight (ww) (approximately 3,000 sharks) quota for the public display and research of sharks (combined) in the final Fishery Management Plan (FMP) for Atlantic Tunas, Swordfish, and Sharks (1999 FMP). The quotas available for scientific research and public display of sandbar and dusky sharks was modified in Amendment 2 to the 2006 Consolidated HMS FMP (June 24, 2008, 73 FR 35778; corrected on July 15, 2008 73 FR 40658) in light of the results of recent stock assessments. The public display and scientific research quotas for sandbar sharks are now limited to 2.78 metric tons (mt) whole weight (ww) (2 mt dressed weight (dw)): 1.39 mt ww for public display and 1.39 mt ww for scientific research. Furthermore, Amendment 2 limited dusky shark collection to bona fide scientific research and prohibits dusky shark collection for public display. The rule did not modify the overall 60 mt ww quota, rather; it adjusted the proportion of that quota allocated for sandbar and dusky sharks. These quotas have been analyzed in conjunction with other sources of mortality under Amendment 2 to the 2006 Consolidated HMS FMP, and NMFS has determined that harvesting this amount for public display will not have a significant impact on the stocks. The number of sharks actually harvested for display and research has remained under the annual 60 mt ww quota every year since inception of the quota. In 2007, approximately 32 percent of the sharks authorized for public display and scientific research purposes were actually harvested or discarded dead.

NMFS may also consider applications for bycatch reduction research in closed regions of the Atlantic Ocean, Gulf of Mexico, and Caribbean Sea to test gear modifications and fishing techniques aimed to avoid incidental capture of non-target species. These permits may require further National Environmental Policy Act (NEPA) analyses. NMFS will seek additional public comment on these applications, as necessary, unless the research is being conducted from bona fide scientific research vessels. On January 3, 2008, NMFS announced a final decision to issue EFPs to conduct research in portions of the East Florida Coast (EFC) and Charleston Bump closed areas using a limited number of pelagic longline (PLL) vessels. The goals of the research are to collect baseline data in closed areas under current PLL fishery conditions; evaluate existing PLL bycatch reduction measures; and, collect data to examine the effectiveness of existing PLL area closures to meet current conservation and harvesting goals. As part of this research, NMFS issued EFPs to three PLL vessels, only two of which may fish at any one time, to conduct 289 PLL sets consisting of 500, 18/0 non-offset circle hooks each, over a 12 month period. One-half of the sets will be made inside the closed areas and one-half of the sets will be made outside of the closed areas. All participating vessels are required to carry NMFS-certified observers. The EFPs expire on February 28, 2009; however, since only approximately 18 percent of the research sets have been completed thus far, NMFS will likely re-issue or extend the permits in 2009.

Between February and October 2008, 13 research trips occurred. During these trips, 53 PLL sets were made, with 13 sets deployed inside the closed areas, 40 sets deployed outside of the closed areas. Inside the closed areas, 178 swordfish were kept, 59 swordfish were released alive, and 62 swordfish were discarded dead. One yellowfin tuna was kept, and one yellowfin tuna was discarded dead. No other tunas were caught in the closed areas. Additionally, one blue marlin, one white marlin, and four sailfish were captured. The blue and white marlin were released alive and three of the four sailfish were discarded dead.

Outside of the closed areas, 168 swordfish were kept; 20 swordfish were released alive; 51 swordfish were discarded dead; 189 bigeye tuna were kept; two bigeye tuna were released alive; eight bigeye tuna were discarded dead; 31 yellowfin tuna were kept; two yellowfin tuna were released alive; one yellowfin tuna was discarded dead; 19 albacore tuna were kept; and two albacore tuna were discarded dead. Additionally, 14 blue marlin were released alive and five discarded dead; four white marlin were released alive and three discarded dead; 13 sailfish were released alive and seven discarded dead; and five roundscale spearfish/white marlin were released alive and one discarded dead. No bluefin tuna were caught during any of the 53 PLL research sets. Additionally, three sea turtles were captured in the research fishery. Two leatherback sea turtles were captured on PLL gear deployed inside the closed areas, and one loggerhead sea turtle was captured on PLL gear deployed outside of the closed areas. All of the sea turtles were released alive with no trailing gear attached. There were no marine mammal interactions during any of the 53 PLL research sets. The research is ongoing and updates will be provided as data become available.

NMFS is considering a request from the Principal Investigator to extend the area authorized to conduct PLL research in the EFC closed area. The area originally authorized is described in the Final Environmental Assessment (EA) to Conduct Scientific Research Experiments Using Pelagic Longline Gear in Portions of the EFC and Charleston Bump Closed Areas of the Atlantic Ocean, and in the Notice of Availability of the Final EA that published in the Federal Register on January 3, 2008 (73 FR 450). The requested change would form a new western boundary line along 79°50′ West Longitude, which is 10 nautical miles (nmi) west of points six (6) and seven (7) of the authorized research area shown in Alternative 3 of the Final EA.

The requested extension of the boundary 10 nmi to the west of the currently authorized research area would enable setting of the gear to mirror historical fishing patterns in the EFC and to fulfill the scientific objectives of the research by providing PLL vessels with sufficient space to conduct the authorized PLL research. The primary fishing technique for the PLL fleet that historically fished the U.S. waters of the Florida Straits prior to the 2001 closure was to use the water moving more slowly inshore of the faster Gulf Stream current as a western “anchor” that would enable the rest of the gear to the east of the anchor point to expand and swing to the northeast during the overnight fishing period. This type of anchor would serve as a means to help prevent the gear set in the center of the current from drifting into the prohibited Bahamian waters to the east within and immediately northward of the Florida Straits.

The additional 10 nmi westward extension of the experimental research area of the EFC closed area would not be a large enough area to allow for a full PLL set to occur in the area. No more than two full sections of gear on any given set would be authorized to be set in the expanded area. The current gear configurations used under the EFPs for this research results in each section having 70 hooks total, or 140 hooks for two sections of gear. There would be no change to the overall number of authorized vessels, fishing effort, or number of sets described in the Final EA, although the location/area for research within the EFC would be expanded.

Based on an analysis of historical data from the PLL logbook and PLL observer program from 1995-2000, NMFS has determined that the potential increase in catch of target and non-target species in the proposed area would be minimal. Specifically, there were no reported interactions of sea turtles or marine mammals in the expanded area from 1995-2000, and on average, one white marlin, four blue marlin, five sailfish, and one spearfish were reported caught annually. There were an average of 90 swordfish kept and 45 discarded annually in the area. NMFS will consider authorizing the requested closed area boundary extension after conducting any necessary environmental analyses.

Comments are also requested on the issuance of Chartering Permits to U.S. vessels fishing for HMS while operating under chartering arrangements. The vessel chartering regulations can be found at 50 CFR 635.5(a)(5) and 635.32 (e).

In addition, Amendment 2 to the Consolidated HMS FMP implemented a shark research fishery. This research fishery is conducted under the auspices of the exempted fishing program. Research fishery permit holders assist NMFS in collecting valuable shark life history data and data for future shark stock assessments. Fishermen must fill out an application for a shark research permit under the exempted fishing program to participate in the shark research fishery. Shark research fishery participants are subject to 100 percent observer coverage in addition to other terms and conditions. A Federal Register notice describing the objectives for the shark research fishery in 2009 and requesting applications from potential participants published on November 3, 2008 (73 FR 65294).

The authorized number of species for 2008, as well as the number of specimens collected in 2007, is summarized in Table 1. The number of specimens collected in 2008 will be available when 2008 interim and annual reports are submitted to NMFS. In 2007, the number of specimens collected was less than the number of authorized specimens for most permit types, with the exception of the number of larvae collected under billfish exempted fishing permits. It is difficult to control the quantity of larvae that may be collected when sampling fish larvae. However, the impacts of these collections on fish populations are not expected to be significant given the high level of natural mortality of fish larvae. In all cases, mortality associated with an EFP, SRP, Display, or LOA (except for larvae) is counted against the appropriate quota. A total of 41 EFPs and related permits were issued by NMFS in 2007 for the collection of HMS. As of September 2008, there have been a total of 31 EFPs issued.

Table 1. Summary of HMS Exempted Permits Issued in 2007 and 2008.
“HMS” refers to multiple species being collected under a given permit type.
| 2007: Number of Permits Issued | 2007: Number of Authorized Fish | 2007: Number of Authorized Larvae | 2007: Number of Fish Kept/Discarded Dead | 2007: Number of Larvae Kept | 2008: Number of Permits Issued | 2008: Number of Authorized Fish | 2008: Number of Authorized Larvae
EFP |  |  |  |  |  |  |  |
HMS | 9 | 875 | 0 | 88 | 0 | 7 | 1,703 | 0
Shark | 4 | 224 | 0 | 243 | 0 | 4 | 410 | 0
Tuna | 4 | 425 | 0 | 7 | 0 | 4 | 825 | 0
Billfish | 3 | 73 | 1,000 | 17 | 6,129 | 3 | 95 | 1,000
SRP |  |  |  |  |  |  |  |
HMS | 1 | 18 | 1,200 | 2 | 0 | 1 | 685 | 0
Shark | 2 | 670 | 0 | 60 | 0 | 0 | 0 | 0
Billfish | 0 | 0 | 0 | 0 | 0 | 0 | 0 | 0
Tuna | 1 | 12 | 0 | 23 | 0 | 0 | 0 | 0
Display |  |  |  |  |  |  |  |
HMS | 3 | 90 | 0 | 0 | 0 | 1 | 36 | 0
Shark | 6 | 276 | 0 | 71 | 0 | 5 | 239 | 0
Total | 33 | 2,663 | 2,200 | 511 | 6,129 | 25 | 3,993 | 1,000
LOA* |  |  |  |  |  |  |  |
Shark | 8 | 3,140 | 0 | 87 | 0 | 6 | 2,625 | 0
*LOAs are issued for bonafide scientific research activities involved non-ATCA managed species (i.e., sharks). Collections made under an LOAs are not authorized; rather this estimated harvest for research is acknowledged by NMFS. Permitees are encouraged to report all fishing activities in a timely manner.

Final decisions on the issuance of any EFPs, SRPs, Display, and Chartering Permits will depend on the submission of all required information about the proposed activities, NMFS's review of public comments received on this notice, an applicant's reporting history on past permits issued, past law enforcement violations, consistency with relevant NEPA documents, and any consultations with appropriate Regional Fishery Management Councils, states, or Federal agencies. NMFS does not anticipate any significant environmental impacts from the issuance of these EFPs as assessed in the 1999 FMP and Amendment 2 to the Consolidated HMS FMP.

Authority: 16 U.S.C. 971 et seq. and 16 U.S.C. 1801 et seq.

Dated: November 7, 2008.
Emily H. Menashes
Acting Director, Office of Sustainable Fisheries, National Marine Fisheries Service.

[FR Doc. E8-27135 Filed 11-13-08; 8:45 am]

BILLING CODE 3510-22-S